DEPARTMENT OF HOMELAND SECURITY

Coast Guard

33 CFR Part 165

[Docket Number USCG-2024-0618]

RIN 1625-AA00

Safety Zone, Kahanamoku Beach, Honolulu, HI

AGENCY: Coast Guard, DHS.

ACTION: Temporary final rule.

SUMMARY: The Coast Guard is establishing a temporary safety zone for certain waters of the Kahanamoku Beach. This action is necessary to provide for the safety of life on these navigable waters near Honolulu, HI, during a drone show display at various times on August 13 through 18, 2024. This rulemaking prohibits, during the enforcement periods, persons and vessels from entering the safety zone unless authorized by the Captain of the Port Sector Honolulu or a designated representative.

DATES: This rule is effective without actual notice from August 15, 2024 through 9:30 p.m. on August 18, 2024. For the purposes of enforcement, actual notice will be used from 4:30 p.m. on August 13, 2024, until August 15, 2024.

ADDRESSES: To view documents mentioned in this preamble as being available in the docket, go to https://www.regulations.gov, type USCG-2024-0618 in the search box and click “Search.” Next, in the Document Type column, select “Supporting & Related Material.”

FOR FURTHER INFORMATION CONTACT: If you have questions about this rule, call or email Petty Officer Vivian S. Gonzalez, Waterway Management Division, U.S. Coast Guard; telephone 808-522-8264, email Vivian.S.Gonzalez@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On June 21, 2024, an organization notified the Coast Guard that it will be conducting a drone show display from 9 p.m. through 4:30 a.m., daily, on August 13 through 15, 2024 and from 6:30 p.m. to 9:30 p.m., daily, on August 15, 17, and 18, 2024. The drones are to be launched from a nearby parking lot approximately 200 feet southwest of the southwestern point of the Hilton Lagoon into the “showbox” located between the following 4 coordinates: 21°16′52.02″ N 157°50′27.88″ W; 21°16′44.24″ N 157°50′29.67″ W; 21°16′40.06″ N 157°50′16.65″ W; and 21°16′47.24″ N 157°50′13.39″ W. In response, on July 17, 2024, the Coast Guard published a notice of proposed rulemaking (NPRM) titled Safety Zone, Kahanamoku Beach, Honolulu, HI (89 FR 58095), stating why the Coast Guard issued the NPRM and invited comments on the proposed regulatory action related to this drone show. The comment period ended August 1, 2024, and the Coast Guard received no comments.

Under 5 U.S.C. 553(d)(3), the Coast Guard finds that good cause exists for making this rule effective less than 30 days after publication in the Federal Register. Delaying the effective date of this rule would be impracticable because prompt action is needed to respond to the potential safety hazards associated with the 428 drones flying overhead at a popular surfing spot in Waikiki.

III. Legal Authority and Need for Rule

The Coast Guard is issuing this rule under authority in 46 U.S.C. 70034. The Captain of the Port Sector Honolulu (COTP) has determined that potential hazards associated with the drone show to be used in this display will be a safety concern for anyone within the safety zone. The purpose of this rule is to ensure the safety of personnel, vessels, and the marine environment within the navigable waters of the safety zone before, during, and after the scheduled events.

IV. Discussion of Comments, Changes, and the Rule

As noted above, we received no comments on our NPRM published July 17, 2024. There are no changes in the regulatory text of this rule from the proposed rule in the NPRM.

This rule establishes a safety zone from 9 p.m. on August 13 through 9:30 p.m. on August 18, 2024. The safety zone will be enforced from 9 p.m. to 4:30 a.m., daily, on August 13, 2024, through August 15, 2024 and from 6:30 through 9:30 p.m., daily, on August 15, 17, and 18, 2024. The safety zone will cover all navigable waters located between the following 4 coordinates: 21°16′52.02″ N 157°50′27.88″ W; 21°16′44.24″ N 157°50′29.67″ W; 21°16′40.06″ N 157°50′16.65″ W; and 21°16′47.24″ N 157°50′13.39″ W. The duration of the zone is intended to ensure the safety of persons and vessels and these navigable waters during the scheduled drone shows. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the duration and time-of-day of the safety zone. This safety zone will be of limited duration to minimize any adverse impacts to persons and vessels who would be in the area. Vessel traffic will only be restricted in the limited access area while drones are in the air. Further, the Coast Guard will issue Broadcast Notice to Mariners via VHF-FM Marine Channel 16 about the zone and persons or vessels desiring to enter the safety zone may do so with permission from the COTP or a Designated Representative. Advance public notifications will also be made to local mariners through appropriate means, which may include Local Notice to Mariners and Broadcast Notice to Mariners.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A. above, this rule will not have a significant economic impact on any vessel owner or operator because they are able to transit during the periods of time the drones are not in-flight.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This proposed rule involves a safety zone lasting 6 hours that would prohibit entry within the “showbox”. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for part 165 continues to read as follows:

Authority: 46 U.S.C. 70034; 33 CFR 1.05-1, 6.04-1, 6.04-6, and 160.5; Department of Homeland Security Delegation No. 00170.1, Revision No. 01.3.

2. Add § 165.T14-0618 to read as follows:

§ 165.T14-0618 Safety Zone, Kahanamoku Beach, Honolulu, HI.

(a) Location. The following area is a safety zone: All waters offshore of Kahanamoku Beach, from surface to bottom, encompassed by a line connecting the following points beginning at 21°16′52.02″ N 157°50′27.88″ W, thence to 21°16′44.24″ N 157°50′29.67″ W, thence to 21°16′40.06″ N 157°50′16.65″ W, thence to 21°16′47.24″ N 157°50′13.39″ W, back to the beginning point. These coordinates are based on 1984 World Geodetic System (WGS 84).

(b) Definitions. As used in this section, designated representative means a Coast Guard Patrol Commander, including a Coast Guard coxswain, petty officer, or other officer operating a Coast Guard vessel and a Federal, State, and local officer designated by or assisting the Captain of the Port Sector Honolulu (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative by calling Sector Honolulu Command Center at 808-842-2603. During the enforcement periods, all persons and vessels permitted to enter the safety zone must comply with all lawful orders or directions given to them by the COTP or the COTP's designated representative.

(d) Enforcement periods. This section will be enforced from 9 p.m. to 4:30 a.m., daily, on August 13, 2024, through August 15, 2024, and from 6:30 to 9:30 p.m., daily, on August 15, 17, and 18, 2024.

Dated: August 8, 2024.
Aja L. Kirksey,
Captain, U.S. Coast Guard, Captain of the Port Sector Honolulu.

[FR Doc. 2024-18205 Filed 8-14-24; 8:45 am]

BILLING CODE 9110-04-P